DEPARTMENT OF ENERGY

Federal Energy Regulatory Commission

[Project No.: 2230-034]

City and Borough of Sitka, AK; Notice of Application Accepted for Filing and Soliciting Motions To Intervene and Protests

May 25, 2006.

Take notice that the following hydroelectric application has been filed with the Commission and is available for public inspection.

a. Type of Application: New Major License.

b. Project No.: 2230-034.

c. Date Filed: March 28, 2006.

d. Applicant: City and Borough of Sitka, Alaska.

e. Name of Project: Blue Lake Hydroelectric Project.

f. Location: On Sawmill Creek, 5 miles southeast of the City of Sitka, Alaska. The project occupies land of the United States administered by the Forest Service.

g. Filed Pursuant to: Federal Power Act 16 U.S.C. 791(a)-825(r).

h. Applicant Contact: Charles Walls, Utility Director, City and Borough of Sitka, 105 Jarvis Street, Sitka, AK 99835, (907) 747-4000.

i. FERC Contact: Thomas Dean, (202) 502-6041 or thomas.dean@ferc.gov.

j. Deadline for Filing Motions To Intervene and Protests: July 24, 2006.

All documents (original and eight copies) should be filed with: Magalie R. Salas, Secretary, Federal Energy Regulatory Commission, 888 First Street, NE., Washington, DC 20426.

The Commission's Rules of Practice require all intervenors filing documents with the Commission to serve a copy of that document on each person that is on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “eFiling” link.

k. This application has been accepted for filing, but is not ready for environmental analysis at this time.

l. Description of Project: The existing Blue Lake Project consists of one development and two units as follows: The Blue Lake development consists of: (1) A 211-foot-high, 256-foot-long concrete arch dam equipped with a 140-foot-long spillway and a release valve at the base of the dam; (2) a 1,225-acre reservoir with a normal water surface elevation of 342 feet msl; (3) a 7,110-foot-long power conduit consisting of: (a) an 11.5-foot-diameter, 1,500-foot-long penstock; (b) an 84-inch-diameter, 460-foot-long penstock; (c) a 10-inch-diameter, 4,650-foot-long lower penstock; (d) an 84-inch-diameter, 500-foot-long penstock; (e) a 20-inch-diameter water supply tap; (f) an 84-inch-diameter butterfly valve; and (g) a 24-inch conduit drain valve; (4) a powerhouse containing two 3,000 kW generating units; (5) a 150-foot-long tailrace; (6) a 5-mile-long, 69-kV transmission line; and (7) appurtenant facilities.

The Fish Valve Unit consists of: (1) A 36-inch-diameter wye penstock connected to the power conduit; (2) a powerhouse containing one 670 kW generating unit; (3) a 7,700-foot-long, 12.47-kV transmission line; and (4) appurtenant facilities.

The Pulp Mill Feeder Unit consists of: (1) A 36-inch-diameter tee connected to the power conduit; (2) a 36-inch-diameter, 24-foot-long penstock; (3) a powerhouse containing one 870 kW generating unit; (4) a 470-foot-long 4.16-kV transmission line; and (5) other appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received at the Commission on or before the specified deadline date.

All filings must (1) bear in all capital letters the title “PROTEST” or “MOTION TO INTERVENE;” (2) set forth in the heading the name of the applicant and the project number of the application to which the filing pertains; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. E6-8525 Filed 6-1-06; 8:45 am]

BILLING CODE 6717-01-P